NUCLEAR REGULATORY COMMISSION

Advisory Committee on Reactor Safeguards (ACRS) Meeting of the ACRS Subcommittee on US-APWR; Notice of Meeting

The ACRS Subcommittee on the US-APWR (U.S. Advanced Pressurized Water Reactor) will hold a meeting on February 19, 2009, in a conference room at Mitsubishi Electric Power Products, Inc., 547 Keystone Drive, Suite 200, Warrendale, PA 15088. Note that the street address for members of the public to check in and receive a badge is 530 Keystone Drive, Warrendale, PA 15088.

The morning sessions of this meeting will be open to public attendance. Sessions after approximately 10:30 a.m. may be closed to protect information that is proprietary to Mitsubishi Heavy Industries, Ltd. and its contractors pursuant to 5 U.S.C. 552b(c)(4).

The agenda for the subject meeting shall be as follows: Thursday, February 19, 2009—8:30 a.m.-5 p.m.

The Subcommittee will review three topical reports associated with: Large-Break LOCA (loss-of-coolant-accident) Code Applicability Report for US-APWR; Small-Break LOCA Methodology for US-APWR; and Non-LOCA Methodology. The Subcommittee will hear presentations by and hold discussions with representatives of the NRC staff, Mitsubishi Heavy Industries, Ltd., and other interested persons regarding this matter. The Subcommittee will gather information, analyze relevant issues and facts, and formulate proposed positions and actions, as appropriate, for deliberation by the Full Committee.

Members of the public desiring to provide oral statements and/or written comments should notify the Designated Federal Official, Mr. Neil Coleman, (Telephone: 301-415-7656) five days prior to the meeting, if possible, so that appropriate arrangements can be made. Electronic recordings will be permitted. Detailed procedures for the conduct of and participation in ACRS meetings were published in the Federal Register on October 6, 2008 (73 FR 58268-58269).

Further information regarding this meeting can be obtained by contacting the Designated Federal Official between 8 a.m. and 4:15 p.m. (ET). Persons planning to attend this meeting are urged to contact the above named individual at least two working days prior to the meeting to be advised of any potential changes to the agenda.

Dated: January 26, 2009.
Antonio Dias,
Chief, Reactor Safety Branch B, Advisory Committee on Reactor Safeguards.

[FR Doc. E9-2180 Filed 1-30-09; 8:45 am]

BILLING CODE 7590-01-P